DEPARTMENT OF HOMELAND SECURITY

Federal Emergency Management Agency

[Docket ID: FEMA-2012-0031; OMB No. 1660-0085]

Agency Information Collection Activities; Submission for OMB Review; Comment Request: Crisis Counseling Assistance and Training Program

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 13, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION: Section 416 of the Robert T. Stafford Disaster Relief and Emergency Assistance Act, (Stafford Act) (42 U.S.C. 5183) Public Law 93-288, as amended, authorizes the President to provide financial assistance to States, U.S. Territories, and Federally Recognized Tribes for professional counseling services to survivors of major disasters to relieve mental health problems caused by or aggravated by a major disaster or its aftermath. FEMA has codified Section 416 of the Stafford Act at section 44 CFR 206.171 entitled Crisis Counseling Assistance and Training. Under Section 416 of the Stafford Act and 44 CFR 206.171, the President has designated the Department of Health and Human Services-Center for Mental Health Services (HHS-CMHS) to coordinate with FEMA in administering the Crisis Counseling Assistance and Training Program (CCP). FEMA and HHS-CMHS signed an interagency agreement under which HHS-CMHS provides program oversight, technical assistance and training to States applying for CCP funding.

We received one comment during the 60-day FRN period. Main points addressed include (1) CCP grants do not reimburse states for indirect costs associated with administrative overhead which has proven burdensome to the state, (2) the 60-day ISP grant program period is not sufficient time to prepare and submit the required ISP application (due 14 days from the date of the IA declaration), hire staff, initiate contracts with local mental health providers and provide immediate response activities to those impacted by the disaster, (3) the immediate availability of CCP services following a major disaster is recommended to mitigate the psychological impact to first responders, disaster survivors, etc., and to expedite funding to states, and finally, (4) that certain sections of the ISP application should be pre-approved by FEMA prior to a disaster to expedite access to disaster funding so that staff can be hired and supplies and equipment obtained quickly to implement the program.

All comments received are issues currently being reviewed by the Community Services Section within the Individual Assistance Division of FEMA's Recovery Directorate. A FEMA economist is currently reviewing program data to determine what policy and/or program changes (to include possible regulatory changes) are necessary to ensure that the CCP program is cost effective, efficient and not overly cumbersome to States applying for the program.

Collection of Information

Title: Crisis Counseling Assistance and Training Program.

Type of information collection: Revision of a currently approved information collection.

OMB Number: 1660-0085.

Form Titles and Numbers: FEMA Form 003-0-1, Crisis Counseling Assistance and Training Program, Immediate Services Program Application; FEMA Form 003-0-2, Crisis Counseling Assistance and Training Program, Regular Services Program Application.

Abstract: The CCP consists of two grant programs, the Immediate Services Program (ISP) and the Regular Services Program (RSP). The ISP and the RSP provide supplemental funding to States, U.S. Territories, and Federally Recognized Tribes following a Presidentially-declared disaster. The grant programs provide funding for Training and Services, including community outreach, public education and counseling techniques. States are required to submit an application that provides information on Needs Assessment, Plan of Service, Program Management, and an accompanying Budget.

Affected Public: State, local or Tribal Government.

Estimated Number of Respondents: 24 respondents.

Number of Responses: 57 responses.

Estimated Total Annual Burden Hours: 2,580 hours.

Estimated Cost: The estimated annual cost to respondents for the hour burden is $142,674. There are no annual costs to respondents operations and maintenance costs for technical services. There are no annual start-up or capital costs. The cost to the Federal Government is $139,654.

Dated: January 24, 2013.
Charlene D. Myrthil,
Director, Records Management Division, Mission Support Bureau, Federal Emergency Management Agency, Department of Homeland Security.

[FR Doc. 2013-03007 Filed 2-8-13; 8:45 am]

BILLING CODE 9110-13-P